DEPARTMENT OF COMMERCE

National Oceanic and Atmospheric Administration

National Sea Grant Review Panel

AGENCY: Notice of public meeting.

SUMMARY: This notice sets forth the schedule and proposed agenda of a forthcoming meeting of the Sea Grant Review Panel. The meeting will have several purposes. Panel members will discuss and provide advice on the National Sea Grant College Program in the areas of program management and evaluation, national strategic investments, education and extension, science and technology programs, and other matters as described below:

DATES: The announced meeting is scheduled during two days: Tuesday, August 8, 8:30 a.m. to 5:30 p.m.; Wednesday, August 9, 8:00 a.m. to 12:00 noon.

ADDRESSES: National Oceanic and Atmospheric Administration, Silver Spring Metro Center III, 1315 East-West Highway, Room 4527, Silver Spring, Maryland 20910.

FOR FURTHER INFORMATION CONTACT: Dr. Ronald C. Baird, Director, National Sea Grant College Program, National Oceanic and Atmospheric Administration, 1315 East-West Highway, Room 11716, Silver Spring, Maryland 20910, (301) 713-2448

SUPPLEMENTARY INFORMATION: The Panel, which consists of a balanced representation from academia, industry, state government and citizens groups, was established in 1976 by Section 209 of the Sea Grant Improvement (Pub. L. 94-461, 33 U.S.C. 1128). The Panel advises the Secretary of Commerce and the Director of the National Sea Grant College Program with respect to operations under the Act, and such other matters as the Secretary refers to them for review and advice. The agenda for the meeting is as follows:

Tuesday, August 8, 2000

8:30 a.m.—Welcoming and Opening Formalities

8:45 a.m.—Department of Commerce Report of Priority Issues

9:15 a.m.—Executive Committee Report

10:00 a.m.—Sea Grant Review Panel Subcommittee Reports Minority Serving Institutions Science and Technology Technology Transfer New Subcommittees

11:30 a.m.—National Extension Review

12:15 p.m.—Lunch

1:00 p.m.—Sea Grant Science Presentation

1:45 p.m.—Congressional Update

2:30 p.m.—Sea Grant Association Report

3:15 p.m.—NOAA and OAR Update

4:00 p.m.—National Sea Grant Office Update

5:30 p.m.—Officer Elections

5:45 p.m.—Adjourn

Wednesday, August 9, 2000

8:30 a.m.—NOAA Science Advisory Board

9:15 a.m.—Program Evaluation

10:45 a.m.—Critical Sea Grant Issues

11:45 a.m.—Wrap-up

12:00 noon—Adjourn

This meeting will be open to the public.

Dated: July 24, 2000.
Francis M. Schuler,
Acting Assistant Administrator, Office of Oceanic and Atmospheric Research.

[FR Doc. 00-19086 Filed 7-27-00; 8:45 am]

BILLING CODE 3510-KA-M